DEPARTMENT OF HEALTH AND HUMAN SERVICES

Agency for Toxic Substances and Disease Registry

[Docket No. ATSDR-2023-0003]

Nominations for Substances To Be Evaluated for Toxicological Profile Development

AGENCY: Agency for Toxic Substances and Disease Registry (ATSDR), Department of Health and Human Services (HHS).

ACTION: Notice with comment period.

SUMMARY: The Agency for Toxic Substances and Disease Registry (ATSDR), within the Department of Health and Human Services (HHS), announces that it is soliciting nominations of substances to be evaluated for an upcoming set of toxicological profiles. ATSDR is opening a docket for the public to submit nominations and provide comment on which toxicological profiles are developed next. Members of the public, government agencies, or private organizations may comment on which substances they are concerned about so that ATSDR may take this information into consideration when developing future toxicological profiles.

DATES: Written nominations and comments must be received by September 7, 2023.

ADDRESSES: You may submit nominations, identified by Docket No. ATSDR-2023-0003, by either of the methods listed below. Do not submit comments by email. ATSDR does not accept comments by email.

• Federal eRulemaking Portal at http://www.regulations.gov. Follow the instructions for submitting comments.

• Mail: Agency for Toxic Substances and Disease Registry, Office of Innovation and Analytics, 4770 Buford Highway, Mail Stop S106-5, Atlanta, GA 30341-3717. Attn: Docket No. ATSDR-2023-0003.

Instructions: All submissions must include the agency name and docket number for this notice. All relevant comments will be posted without change to http://www.regulations.gov, including any personal information provided. Refer to the Submission of Nominations section (below) for the specific information required to be included in a nomination. For access to the docket to read background documents or comments received, go to http://www.regulations.gov.

FOR FURTHER INFORMATION CONTACT: Farhana Rahman, Agency for Toxic Substances and Disease Registry, Office of Innovation and Analytics, 1600 Clifton Rd. NE, Mail Stop S106-5, Atlanta, GA 30329-4027; Email: ATSDRToxProfileFRNs@cdc.gov; Phone: 1-800-232-4636.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) concerning hazardous substances most commonly found at facilities on the CERCLA National Priorities List (NPL). Among these statutory requirements is a mandate for the Administrator of ATSDR to prepare toxicological profiles for each substance included on the Priority List of Hazardous Substances, also known as the Substance Priority list (SPL). This list identifies 275 hazardous substances found at NPL sites that ATSDR has determined currently pose the most significant potential threat to human health. For more information on ATSDR's SPL, visit http://www.atsdr.cdc.gov/SPL/.

Substances to be Evaluated for Toxicological Profile Development

Each year, ATSDR develops a list of substances to be considered for toxicological profile development. The nomination process includes consideration of all substances on ATSDR's SPL, as well as other substances nominated by the public.

Submission of Nominations for Toxicological Profile Development

This notice invites public nominations of substances for toxicological profile development. If nominating a substance that is not on the SPL, please include the rationale for the nomination and any supporting data. ATSDR will evaluate data and information associated with nominated substances and will determine the final list of substances to be chosen for toxicological profile development.

Public Participation

Interested persons or organizations are invited to participate by submitting nominations for substances. These submissions may include written views and data to support the nomination. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. ATSDR will review all submissions and may choose to redact, or withhold, submissions containing private or proprietary information such as Social Security numbers, medical information, inappropriate language, or duplicate/near duplicate examples of a mass-mail campaign related to substances being nominated. Do not submit comments by email. ATSDR does not accept comment by email.

Donata Green,
Acting Associate Director, Office of Policy, Planning and Partnerships, Agency for Toxic Substances and Disease Registry.

[FR Doc. 2023-16914 Filed 8-7-23; 8:45 am]

BILLING CODE 4163-70-P